DEPARTMENT OF JUSTICE

Notice of Lodging of a Consent Decree Pursuant to the Clean Water Act

Notice is hereby given that a proposed Consent Decree in United States of America and the State of Alabama v. Knoxville Utilities Board, Civ. No. 3:04-CV-568, and Tennessee Clean Water Network. v. Knoxville Utilities Board, Civ. No. 3:03-CV-497, was lodged on December 1, 2004, with the United States District Court for the Eastern District of Tennessee, Northern Division.

The proposed Consent Decree would resolve certain claims under Sections 301 and 402 of the Clean Water Act, 33 U.S.C. 1251, et seq., against the Knoxville Utilities Board (“KUB”), through the performance of injunctive measures, the payment of a civil penalty, and the performance of Supplemental Environmental Projects (“SEPs”). The United States, the State of Tennessee and Tennessee Clean Water Network, allege that KUB is liable as a person who has discharged a pollutant from a point source to navigable waters of the United States without a permit and, in some cases, in excess of permit limitations.

The proposed Consent Decree would resolve the liability of KUB for the violations alleged in the complaints filed in these matters. To resolve these claims, KUB would perform the injunctive measures valued at over $500 million and described in the proposed Consent Decree; would pay a civil penalty of $334,000 ($167,000 to the United States Treasury and $167,000 to the State of Tennessee in the form of an environmental project); and would perform a SEP valued at $2 million, which involves the installation of new private sewer laterals in low- and middle-income households within KUB's service area. The Department of Justice will receive comments relating to the proposed Consent Decree for a period of thirty (30) days from the date of this publication. Comments should be addressed to the Assistant Attorney General, Environment and Natural Resources Division, P.O. Box 7611, U.S. Department of Justice, Washington, DC 20044 and should refer to United States v. Knoxville Utilities Board, DJ No. 90-5-1-1-08186.

The proposed Consent Decree may be examined at the office of the United States Attorney for the Eastern District of Tennessee, 800 Market Street, Knoxville, TN 37901, and at the Region 4 Office of the Environmental Protection Agency, Atlanta Federal Center, 61 Forsyth Street, SW., Atlanta GA 30303. During the public comment period, the decree may also be examined on the following Department of Justice Web site, http://www.usdoj.gov/enrd/open.html. A copy of the decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $29.00 (25 cents per page reproduction cost) payable to the U.S. Treasury. The check should refer to United States v. Knoxville Utilities Board, DJ No. 90-5-1-1-08186.

Ellen Mahan,
Assistant Section Chief, Environmental Enforcement Section, Environment and Natural Resources Division.

[FR Doc. 04-27485 Filed 12-15-04; 8:45 am]

BILLING CODE 4410-15-M